DEPARTMENT OF THE INTERIOR

National Park Service

[NPS-WASO-NAGPRA-NPS0039352; PPWOCRADN0-PCU00RP14.R50000]

Notice of Inventory Completion: Auburn University at Montgomery, Montgomery, AL

AGENCY: National Park Service, Interior.

ACTION: Notice.

SUMMARY: In accordance with the Native American Graves Protection and Repatriation Act (NAGPRA), Auburn University at Montgomery has completed an inventory of human remains and associated funerary objects and has determined that there is a cultural affiliation between the human remains and associated funerary objects and Indian Tribes or Native Hawaiian organizations in this notice.

DATES: Repatriation of the human remains and associated funerary objects in this notice may occur on or after February 18, 2025.

ADDRESSES: Megan LeBlanc, Auburn University at Montgomery, P.O. Box 244023, Montgomery, AL 36124, telephone (334) 394-5532, email mleblanc@aum.edu and nagpra@aum.edu.

SUPPLEMENTARY INFORMATION: This notice is published as part of the National Park Service's administrative responsibilities under NAGPRA. The determinations in this notice are the sole responsibility of Auburn University at Montgomery, and additional information on the determinations in this notice, including the results of consultation, can be found in its inventory or related records. The National Park Service is not responsible for the determinations in this notice.

Abstract of Information Available

Human remains representing at least 13 individuals have been identified. The 3,406 associated funerary objects (3,368 individual items and 38 lots of associated funerary objects) include one incomplete pottery vessel, 2,066 pottery sherds, 1,298 lithic items, two metal buttons, one glass fragment, 10 lots of faunal remains, 11 lot of shell fragments, four lots of charcoal, 11 lots of daub, and two lots of sediment samples. 1DS1, Durant's Bend, is located in Dallas County, AL along the Alabama River. In 1982, Dr. Craig Sheldon and field school students from Auburn University at Montgomery removed human remains and associated funerary objects from the east midden area of the site. These human remains and associated funerary objects were then housed in the Auburn University at Montgomery Archaeology Laboratory. No known hazardous substances were used to treat any of the human remains or associated funerary objects.

Cultural Affiliation

Based on the information available and the results of consultation, cultural affiliation is reasonably identified by the geographical location or acquisition history of the human remains and associated funerary objects described in this notice.

Determinations

Auburn University at Montgomery has determined that:

• The human remains described in this notice represent the physical remains of a minimum of 13 individuals of Native American ancestry.

• The 3,406 objects described in this notice are reasonably believed to have been placed intentionally with or near individual human remains at the time of death or later as part of the death rite or ceremony.

• There is a connection between the human remains and associated funerary objects described in this notice and the Alabama-Coushatta Tribe of Texas; Alabama-Quassarte Tribal Town; Coushatta Tribe of Louisiana; Jena Band of Choctaw Indians; Kialegee Tribal Town; Mississippi Band of Choctaw Indians; Poarch Band of Creek Indians; Seminole Tribe of Florida; The Choctaw Nation of Oklahoma; The Muscogee (Creek) Nation; The Seminole Nation of Oklahoma; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 18, 2025. If competing requests for repatriation are received, Auburn University at Montgomery must determine the most appropriate requestor prior to repatriation. Requests for joint repatriation of the human remains and associated funerary objects are considered a single request and not competing requests. Auburn University at Montgomery is responsible for sending a copy of this notice to the Indian Tribes and Native Hawaiian organizations identified in this notice.

Authority: Native American Graves Protection and Repatriation Act, 25 U.S.C. 3003, and the implementing regulations, 43 CFR 10.10.

Dated: January 13, 2025.
Melanie O'Brien,
Manager, National NAGPRA Program.

[FR Doc. 2025-01185 Filed 1-16-25; 8:45 am]

BILLING CODE 4312-52-P